DEPARTMENT OF HEALTH AND HUMAN SERVICES

Centers for Disease Control and Prevention

Notice of Award of a Single-Source Cooperative Agreement To Fund National Center for HIV/AIDS, Dermatology, and STDs

AGENCY: Centers for Disease Control and Prevention (CDC), Department of Health and Human Services (HHS).

ACTION: Notice.

SUMMARY: The Centers for Disease Control and Prevention (CDC), in the Department of Health and Human Services (HHS), announces the award of approximately $1,500,000 for Year 1 funding to the National Center for HIV/AIDS, Dermatology, and STDS (NCHADS). This award will support implementing a comprehensive combination of HIV prevention, monitoring, diagnosis, and treatment systems; emergency preparedness and response; and reduce the infectious disease burden in Cambodia. Funding amounts for years 2-5 will be set at continuation.

DATES: The period for this award will be September 30, 2023, through September 29, 2028.

FOR FURTHER INFORMATION CONTACT: Joyce Neal, Center for Global Health, Centers for Disease Control and Prevention, #80, Samdach Pen Nut Blvd. (289) Sangkat Boeung Kak II, Khan Tuol Kork Phnom Penh, Cambodia, Telephone: 404-433-0184, Email: jxn4@cdc.gov.

SUPPLEMENTARY INFORMATION: The single-source award aims to strengthen the systems and capacity of NCHADS to end HIV as a public health threat and to sustain HIV epidemic control. NCHADS is in a unique position to conduct this work, as it is the only recognized national focal point by the Ministry of Health (MOH) under Sub-decree 67 ANKr.BK.

Summary of the Awards

Recipients: National Center for HIV/AIDS, Dermatology, and STDs (NCHADS).

Purpose of the Awards: The purpose of these awards is to support implementing a comprehensive combination of HIV prevention, monitoring, diagnosis, and treatment systems; emergency preparedness and response; and reduce the infectious disease burden in Cambodia.

Amount of the Awards: For NCHADS, the approximate year 1 award funding amount is $1,500,000 in Federal Fiscal Year (FYY) 2023, subject to the availability of funds. Funding amounts for years 2-5 will be set at continuation.

Authorities: This program is authorized under Public Law 108-25 (the United States Leadership Against HIV AIDS, Tuberculosis and Malaria Act of 2003).

Period of Performance: September 30, 2023 through September 29, 2028.

Dated: March 9, 2023.
Terrance Perry,
Chief Grants Management Officer, Centers for Disease Control and Prevention.

[FR Doc. 2023-05250 Filed 3-14-23; 8:45 am]

BILLING CODE 4163-18-P